DEPARTMENT OF THE INTERIOR

Fish and Wildlife Service

[FWS-R4-ES-2022-N035; FXES11140400000-223-FF04E00000]

Endangered Species; Recovery Permit Applications

AGENCY: Fish and Wildlife Service, Interior.

ACTION: Notice of receipt of permit applications; request for comments.

SUMMARY: We, the U.S. Fish and Wildlife Service, have received applications for permits, permit renewals, and/or permit amendments to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by August 29, 2022.

ADDRESSES:

Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 28597A-2 | Joseph Alderman, Hillsborough, NC | Fishes: Cape Fear shiner (Notropis mekistocholas); and Mussels: Appalachian elktoe (Alasmidonta raveneliana), Carolina heelsplitter (Lasmigona decorata), dwarf wedgemussel (Alasmidonta heterodon), James spinymussel (Parvaspina collina), littlewing pearlymussel (Pegias fabula), and Tar River spinymussel (Parvaspina steinstansana) | North Carolina, South Carolina, and Virginia | Presence/probable absence surveys | Fish: Capture via seining, handle, identify, and release; and Mussels: Capture, handle, identify, mark, release, and salvage relic shells | Renewal.
TE 11044C-1 | Tyler Newman, Richmond, KY | Gray bat (Myotis grisescens), Indiana bat (M. sodalis), and northern long-eared bat (M. septentrionalis) | Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys | Capture with mist nets, handle, identify, band, and radio tag | Renewal.
PER 0042918-0 | Frank Ridgley, Zoo Miami, Miami, FL | Florida bonneted bat (Eumops floridanus) | Florida | Studies to document habitat use, population monitoring, and genetic, virome, dietary, and parasitology analyses | Capture with mist nets, handle, identify, radio tag, buccal swab, recapture if needed, and release | New.
TE 81756A-4 | Jason Robinson, Lexington, KY | Bats: Gray bat (Myotis grisescens), Indiana bat (M. sodalis), and northern long-eared bat (M. septentrionalis); Fishes: Blackside dace (Phoxinus cumberlandensis) and Kentucky arrow darter (Etheostoma spilotum); and Crustaceans: Big Sandy crayfish (Cambarus callainus) | Alabama, Arkansas, Florida, Georgia, Illinois, Indiana, Iowa, Kentucky, Maryland, Michigan, Mississippi, Missouri, New Jersey, New York, North Carolina, Ohio, Oklahoma, Pennsylvania, South Carolina, Tennessee, Vermont, Virginia, and West Virginia | Presence/probable absence surveys and population monitoring | Bats: Capture with mist nets or harp traps, handle, identify, band, and radio tag; Fishes: Capture via seining, netting, or electroshock, handle identify, and release; and Crustaceans: Capture via seining, handle, identify, and release | Renewal.
TE 114069-3 | Fairchild Tropical Botanic Garden, Coral Gables, FL | Agave eggersiana (no common name [NCN]), Amorpha crenulata (crenulate lead-plant), Argythamnia blodgettii (Blodgett's silverbush), Aristida chaseae (NCN), A. portoricensis (pelos del diablo), Brickellia mosieri (Florida brickell-bush), Buxus vahlii (Vahl's boxwood), Calyptranthes thomasiana (NCN), Catesbaea melanocarpa (NCN), Cereus eriophorus var. fragrans (fragrant prickly-apple), Chamaecrista lineata keyensis (big pine partridge pea), Chamaesyce deltoidea pinetorum (pineland sandmat), C. deltoidea serpyllum (wedge spurge), C. deltoidea ssp. deltoidea (deltoid spurge), C. garberi (Garber's spurge), | Florida, Puerto Rico, and U.S. Virgin Islands | Short- and long-term ex situ storage, artificial propagation, reintroduction projects, and scientific and conservation research | Collect seeds, spores, cuttings, propagules, and whole plants | Renewal and amendment.
|  | Chromolaena frustrata (Cape Sable thoroughwort), Consolea corallicola (Florida semaphore cactus), Cyathea dryopteroides (elfin tree fern), Dalea carthagenensis floridana (Florida prairie-clover), Digitaria pauciflora (Florida pineland crabgrass), Elaphoglossum serpens (NCN), Galactia smallii (Small's milkpea), Harrisia (=Cereus) aboriginum (=gracilis) (aboriginal prickly-apple), Jacquemontia reclinata (beach jacquemontia), Linum arenicola (sand flax), L. carteri carteri (Carter's small-flowered flax), Lyonia truncata var. proctorii
|  | (NCN), Pilosocereus robinii (key tree cactus), Polygala smallii (tiny polygala), Polystichum calderonense (NCN), Sideroxylon reclinatum ssp. austrofloridense (Everglades bully), Thelypteris inabonensis (NCN), T. yaucoensis (NCN), Trichomanes punctatum ssp. floridanum (Florida bristle fern), Vernonia proctorii (NCN), and Zanthoxylum thomasianum (St. Thomas prickly-ash)
TE 102324-3 | Thomas Dickinson, Chapel Hill, NC | Amphibians: Neuse River waterdog (Necturus lewisi); Fishes: Cape Fear shiner (Notropis mekistocholas), Carolina madtom (Noturus furiosus), Roanoke logperch (Percina rex), and yellow lance (Elliptio lanceolata); and Mussels: Appalachian elktoe (Alasmidonta raveneliana), Atlantic pigtoe (Fusconaia masoni), Carolina heelsplitter (Lasmigona decorata), Cumberland bean (pearlymussel) (Villosa trabalis), dwarf wedgemussel (Alasmidonta heterodon), James spinymussel (Parvaspina collina), littlewing pearlymussel (Pegias fabula), oyster mussel (Epioblasma capsaeformis), and Tar River spinymussel (Parvaspina steinstansana) | North Carolina and South Carolina | Presence/probable absence surveys and population monitoring | Capture, identify, and release | Renewal and amendment.
TE 68616B-3 | Carla Atkinson, University of Alabama, Tuscaloosa, AL | Alabama pearlshell (Margaritifera marrianae), Choctaw bean (Obovaria choctawensis), fuzzy pigtoe (Pleurobema strodeanum), narrow pigtoe (Fusconaia escambia), round ebonyshell (Reginaia rotulata), southern kidneyshell (Ptychobranchus jonesi), southern sandshell (Hamiota australis), and tapered pigtoe (Fusconaia burkei) | Mississippi | Presence/probable absence surveys, studies to document habitat use, and excretion/respiration studies | Capture, handle, identify, hold temporarily in containers in stream, and release | Amendment.
TE 18986C-3 | North Carolina Zoo, Asheboro, NC | Virgin Islands tree boa (Chilabothrus granti) | Puerto Rico and U.S. Virgin Islands | Captive propagation and reintroduction, maintenance of a satellite population in captivity, genetic analyses and disease screenings, and studies to document habitat use | Remove from the wild, handle, PIT tag, collect blood and tissue samples, radio tag, and salvage | Renewal and amendment.

Authority

We publish this notice under section 10(c) of the Endangered Species Act of 1973, as amended (16 U.S.C. 1531 et seq.).

Aaron Valenta,
Acting Deputy Assistant Regional Director, Ecological Services.

[FR Doc. 2022-16154 Filed 7-27-22; 8:45 am]

BILLING CODE 4333-15-P